DEPARTMENT OF THE TREASURY

Senior Executive Service; Combined Performance Review Board (PRB)

AGENCY: Treasury Department.

ACTION: Notice of members of Combined Performance Review Board (PRB).

SUMMARY: Pursuant to 5 U.S.C. 4314(c)(4), this notice announces the appointment of members of the Combined PRB for the Bureau of Engraving and Printing, the Financial Management Service, the U.S. Mint and the Bureau of the Public Debt. The Board reviews the performance appraisals of career senior executives below the level of bureau head and principal deputy in the four bureaus, except for executives below the Assistant Commissioner level in the Financial Management Service. The Board makes recommendations regarding proposed performance appraisals, ratings, bonuses and other appropriate personnel actions.

Composition of Combined PRB: The Board shall consist of at least three voting members. In case of an appraisal of a career appointee, more than half of the members shall consist of career appointees. The names and titles of the Combined PRB members are as follows:

Primary Members

Bradford E. Cooper, Associate Director for Circulating, Mint—Chairperson; Theodore P. Langlois, Deputy Executive Director (Marketing and Sales), PD; Joel C. Taub, Associate Director (Management), E&P; and Larry D. Stout, Assistant Commissioner, Federal Finance, FMS.

Alternate Members

Jay M. Weinstein, Associate Director for Policy and Management & CFO, Mint; Debra Hines, Assistant Commissioner (Public Debt Accounting), PD; Gregory D. Carper, Associate Director (Chief Financial Officer), E&P; and Scott Johnson, Assistant Commissioner, Management & CFO, FMS.

DATES: Membership is effective on the date of this notice.

FOR FURTHER INFORMATION CONTACT: Bradford E. Cooper, U.S. Mint, Associate Director for Circulating, 801 9th St., NW., 6th Floor, Washington, DC 20220, (202) 354-7400.

This notice does not meet the Department's criteria for significant regulations.

Bradford E. Cooper,
Associate Director for Circulating, U.S. Mint.

[FR Doc. 00-22465 Filed 9-1-00; 8:45 am]

BILLING CODE 4840-01-M